DEPARTMENT OF VETERANS AFFAIRS

Advisory Committee on Cemeteries and Memorials, Notice of Meeting

The Department of Veterans Affairs (VA) gives notice under the Federal Advisory Committee Act, 5 U.S.C. App. 2, that a meeting of the Advisory Committee on Cemeteries and Memorials will be held on May 7-8, 2013, in Winchester B Meeting Room at the Holiday Inn Saint Louis-South I-55, 4234 Butler Hill, St. Louis, MO, from 8:30 a.m. to 4 p.m. The meeting is open to the public.

The purpose of the Committee is to advise the Secretary of Veterans Affairs on the administration of national cemeteries, soldiers' lots and plots, the selection of new national cemetery sites, the erection of appropriate memorials, and the adequacy of Federal burial benefits.

On May 7, the Committee will receive updates on National Cemetery Administrations issues. On the morning of May 8, the Committee will tour the Jefferson Barracks National Cemetery, 2900 Sheridan Road, St. Louis, MO. In the afternoon, the Committee will reconvene at the Conference Center and discuss Committee recommendations, future meeting sites, and potential agenda topics at future meetings.

Time will be allocated for receiving public comments at 1 p.m. on both days. Public comments will be limited to three minutes each. Individuals wishing to make oral statements before the Committee will be accommodated on a first-come, first-served basis. Individuals who speak are invited to submit 1-2 page summaries of their comments at the time of the meeting for inclusion in the official meeting record.

Members of the public may direct questions or submit written statements for review by the Committee in advance of the meeting to Mr. Michael Nacincik, Designated Federal Officer, Department of Veterans Affairs, National Cemetery Administration (43A2), 810 Vermont Avenue NW., Washington, DC 20420, or by email at michael.n@va.gov. In the public's communications with the Committee, the writers must identify themselves and state the organizations, associations, or persons they represent. Any member of the public wishing to attend the meeting should contact Mr. Nacincik at (202) 632-8035.

Dated: April 12, 2013.
By Direction of the Secretary.
Vivian Drake,
Committee Management Officer.

[FR Doc. 2013-09090 Filed 4-17-13; 8:45 am]

BILLING CODE P